DEPARTMENT OF THE INTERIOR

Fish and Wildlife Service

Rice Lake and Mille Lacs National Wildlife Refuges (NWRs); Aitkin, Pine, and Mille Lacs Counties, MN

AGENCY: Fish and Wildlife Service, Interior.

ACTION: Notice of availability; final comprehensive conservation plan and finding of no significant impact for environmental assessment.

SUMMARY: We, the U.S. Fish and Wildlife Service (Service), announce the availability of our final Comprehensive Conservation Plan (CCP) and finding of no significant impact (FONSI) for Rice Lake and Mille Lacs NWRs, Minnesota. In this final CCP, we describe how we will manage these refuges for the next 15 years.

ADDRESSES: Copies of the Final CCP and FONSI are available on compact disk or hard copy. You may obtain a copy by writing to: U.S. Fish and Wildlife Service, Division of Conservation Planning, Bishop Henry Whipple Federal Building, 1 Federal Drive, Fort Snelling, MN 55111 or you may access and download a copy via the planning Web site at http://www.fws.gov/midwest/planning/RiceLake.

FOR FURTHER INFORMATION CONTACT: Walt Ford, (218) 768-2402.

SUPPLEMENTARY INFORMATION:

Introduction

With this notice, we complete the CCP process for Rice Lake and Mille Lacs NWRs that began with the Federal Register notice 70 FR 5693 (February 3, 2005). For more about the process, see that notice. We released the draft CCP and environmental assessment (EA) to the public, announcing and requesting comments in a notice of availability in the Federal Register (72 FR 34711; June 25, 2007).

Rice Lake and Mille Lacs NWRs are located in east-central Minnesota. Both refuges are administered by the staff at Rice Lake NWR. Rice Lake NWR is a mosaic of lakes, marshes, forests, and grasslands that provide a variety of habitat for migrant and resident wildlife. The Refuge is especially noted for its fall concentrations of Ring-necked Ducks, which often number over 150,000 birds. The Refuge also includes pre-historic and historic cultural resources of recognized importance. Mille Lacs NWR is the smallest refuge in the National Wildlife Refuge System. The 0.57-acre Refuge consists of two islands in Mille Lacs Lake. One island is managed as a nesting colony for the State-listed threatened Common Tern. The other island is used by other colonial nesting species. The CCP will guide us in managing and administering Rice Lake and Mille Lacs Refuges for the 15 years following publication of the final CCP. Alternative B, as we described in the environmental assessment, is the foundation for the CCP.

Background

The CCP Process

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

CCP Alternatives

Our draft CCP and NEPA document (72 FR 34711; June 25, 2007) addressed several priority issues raised by us and others. To address these priority issues, we developed and evaluated 2 alternatives during the planning process.

Alternative A, Current Management

Under Alternative A, Current Management, the 170 acres of grassland on the auto tour route would be maintained; stable water levels in Rice Lake would be maintained throughout the growing season and at sufficient level to allow rice harvest; the 1,400 acre area with the pending Wilderness recommendation would be managed as de facto wilderness; Native American ceremonies would be held under special use permit and wild rice harvest coordinated with a local Native American committee; cultural resources would not be interpreted on-site; demand for interpretation and environmental education would be responded to as staff and time permitted; the erosion of Hennepin Island would continue; and the 2005 landcover at the Sandstone Unit would be maintained while allowing for forest succession.

Alternative B, Preferred Alternative

Under Alternative B, Preferred Alternative, 85 acres would be maintained as grassland on the auto tour route to facilitate wildlife observation; water levels would be allowed to fluctuate in Rice Lake to more closely approximate a natural system; the 1,400 acre Wilderness recommendation would be withdrawn to allow for more active management; Native American ceremonies would be held under special use permit and wild rice harvest would be coordinated with a local Native American committee; additional interpretation of cultural resources would be developed in cooperation with the Mille Lacs Band of Ojibwe; demand for interpretation and environmental education would be responded to with additional interpretive opportunities and educational programs with the addition of a park ranger position; the erosion of Hennepin Island would be reversed through rebuilding and protection with a constructed reef; and the 2005 landcover at the Sandstone Unit would be maintained while allowing for forest succession.

Comments

We solicited comments on the draft CCP and environmental assessment for Rice Lake and Mille Lacs NWRs from June 25, 2007 to July 30, 2007. We held an open house at the refuge headquarters on July 10, 2007, to receive comments. We received approximately 15 written comments during the 35 day comment period. We responded to all substantive comments in an appendix to the CCP.

Our Preferred Alternative

After considering the comments we received, we have chosen Alternative B as our preferred alternative. Management of the Refuges for the next 15 years will focus on: (1) Improving the long-term sustainability of wild rice in Rice Lake; (2) reestablishing the white pine super-canopy in Refuge forests; and (3) strengthening programs in wildlife-dependent recreation and cultural resources protection.

Dated: September 12, 2007.
David R. Downes,
Acting Regional Director, Region 3, U.S. Fish and Wildlife Service, Fort Snelling, Minnesota.

[FR Doc. E8-1276 Filed 1-24-08; 8:45 am]

BILLING CODE 4310-55-P